FEDERAL ACCOUNTING STANDARDS ADVISORY BOARD

Meeting Cancellation

Board Action: Pursuant to the Federal Advisory Committee Act (Pub. L. 92-463), as amended, and the FASAB Rules of Procedure, as amended in October 1999, notice is hereby given of the cancellation of the meeting of the Federal Accounting Standards Advisory Board (FASAB), scheduled for Friday, June 25, 2004, at the GAO Building in room 7C13.

FOR FURTHER INFORMATION CONTACT: Wendy Comes, Executive Director, 441 G St., NW., Mail Stop 6K17V, Washington, DC 20548, or call (202) 512-7350.

Authority: Federal Advisory Committee Act. Pub. L. 92-463.

Dated: June 10, 2004.
Wendy M. Comes,
Executive Director.

[FR Doc. 04-13538 Filed 6-15-04; 8:45 am]

BILLING CODE 1610-01-M